DEPARTMENT OF THE TREASURY

Internal Revenue Service

26 CFR Part 25

[REG-123345-01]

RIN 1545-AY91

Net Gift Treatment Under Section 2519

AGENCY: Internal Revenue Service (IRS), Treasury.

ACTION: Cancellation of notice of public hearing on proposed rulemaking.

SUMMARY: This document cancels the public hearing on proposed regulations relating to net gift treatment under section 2519 of the Internal Revenue Code.

DATES: The public hearing originally scheduled for Tuesday, October 15, 2002 at 10 a.m., is cancelled.

FOR FURTHER INFORMATION CONTACT: Guy R. Traynor in the Regulations Unit, Associate Chief Counsel (Income Tax & Accounting), at (202) 622-7180 (not a toll-free number).

SUPPLEMENTARY INFORMATION: A notice of proposed rulemaking and notice of public hearing that appeared in the Federal Register on Monday, July 22, 2002 (67 FR 47755), announced that a public hearing was scheduled for October 15, 2002 at 10 a.m., in room 4718 of the Internal Revenue Building, 1111 Constitution Avenue NW., Washington, DC 20044. The subject of the public hearing is proposed regulations under section 2519 of the Internal Revenue Code. The deadline for submitting outlines and requests to speak at the hearing for these proposed regulations expired on September 24, 2002.

The notice of proposed rulemaking and notice of public hearing, instructed those interested in testifying at the public hearing to submit a request to speak and an outline of the topics to be addressed. As of September 26, 2002, no one has requested to speak. Therefore, the public hearing scheduled for October 15, 2002, is cancelled.

Cynthia E. Grigsby,
Chief, Regulations Unit, Associate Chief Counsel (Income Tax & Accounting).

[FR Doc. 02-25191 Filed 10-2-02; 8:45 am]

BILLING CODE 4830-01-P